ENVIRONMENTAL PROTECTION AGENCY

40 CFR Parts 704, 710, and 711

[EPA-HQ-OPPT-2009-0187; FRL-8872-9]

RIN 2070-AJ43

TSCA Inventory Update Reporting Modifications; Chemical Data Reporting

Correction

In rule document 2011-19922, appearing on pages 50816-50879 in the issue of Tuesday, August 16, 2011, a technical error resulted in incorrect section numbers appearing throughout the regulatory text. The regulatory text is being republished below in its entirety.

PARTS 704, 710 and 711—[CORRECTED]

Beginning on page 50558, in the third column, in the ninth line from the bottom, the regulatory text should read as set forth below:

Therefore, 40 CFR chapter I is amended as follows:

PART 704—[AMENDED]

1. The authority citation for part 704 continues to read as follows:

Authority: 15 U.S.C. 2607(a).

§ 704.3 [Amended]

2. In § 14;704.3, remove the phrase “(as defined in 19 CFR 1.11)” in paragraph (1)(ii) of the definition importer.

PART 710—COMPILATION OF THE TSCA CHEMICAL SUBSTANCE INVENTORY

3. The authority citation for part 710 continues to read as follows:

Authority: 15 U.S.C. 2607(a).

4. Revise the heading for part 710 to read as set forth above.

5. Remove the heading “Subpart A—General Provisions.”

6. Revise paragraph (b) of § 14;710.1 to read as follows:

§ 710.1 Scope and compliance.

* * * * *

(b) This part applies to the activities associated with the compilation of the TSCA Chemical Substance Inventory (TSCA Inventory) and the update of information on a subset of the chemical substances included on the TSCA Inventory.

* * * * *

7. Section 710.3 is amended as follows:

i. Revise the introductory text.

ii. Remove the phrase “(as defined in 19 CFR 1.11)” in paragraph (2) of the definition importer.

iii. Remove the definition non-isolated intermediate.

The revision reads as follows:

§ 710.3 Definitions.

For purposes of this part:

* * * * *

Subpart B (§§ 710.23-710.39) [Removed]

8. Remove subpart B, consisting of §§ 710.23-710.39.

Subpart C (§§ 710.43-710.59) [Removed]

9. Remove subpart C, consisting of §§ 710.43-710.59.

10. Add new part 711 to subchapter R to read as follows:

PART 711—TSCA CHEMICAL DATA REPORTING REQUIREMENTS

Sec.
711.1 Scope and compliance.
711.3 Definitions.
711.5 Chemical substances for which information must be reported.
711.6 Chemical substances for which information is not required.
711.8 Persons who must report.
711.9 Persons not subject to this part.
711.10 Activities for which reporting is not required.
711.15 Reporting information to EPA.
711.20 When to report.
711.22 Duplicative reporting.
711.25 Recordkeeping requirements.
711.30 Confidentiality claims.
711.35 Electronic filing.

Authority: 15 U.S.C. 2607(a).

§ 711.1 Scope and compliance.

(a) This part specifies reporting and recordkeeping procedures under section 8(a) of the Toxic Substances Control Act (TSCA) (15 U.S.C. 2607(a)) for certain manufacturers (including importers) of chemical substances. Section 8(a) of TSCA authorizes the EPA Administrator to require reporting of information necessary for administration of TSCA, including issuing regulations for the purpose of compiling and keeping current the TSCA Chemical Substance Inventory (TSCA Inventory) as required by TSCA section 8(b). In accordance with TSCA section 8(b), EPA amends the TSCA Inventory to include new chemical substances manufactured (including imported) in the United States and reported under TSCA section 5(a)(1). EPA also revises the categories of chemical substances and makes other amendments as appropriate.

(b) This part applies to the activities associated with the periodic update of information on a subset of the chemical substances included on the TSCA Inventory.

(c) Section 15(3) of TSCA makes it unlawful for any person to fail or refuse to submit information required under this part. In addition, TSCA section 15(3) makes it unlawful for any person to fail to keep, and permit access to, records required by this part. Section 16 of TSCA provides that any person who violates a provision of TSCA section 15 is liable to the United States for a civil penalty and may be criminally prosecuted. Pursuant to TSCA section 17, the Federal Government may seek judicial relief to compel submission of TSCA section 8(a) information and to otherwise restrain any violation of TSCA section 15. (EPA does not intend to concentrate its enforcement efforts on insignificant clerical errors in reporting.)

(d) Each person who reports under this part must maintain records that document information reported under this part and, in accordance with TSCA, permit access to, and the copying of, such records by EPA officials.

§ 711.3 Definitions.

The definitions in this section and the definitions in TSCA section 3 apply to this part. In addition, the definitions in 40 CFR 704.3 also apply to this part, except the definitions manufacture and manufacturer in 40 CFR 704.3.

CDX or Central Data Exchange means EPA's centralized electronic document receiving system, or its successors.

Commercial use means the use of a chemical substance or a mixture containing a chemical substance (including as part of an article) in a commercial enterprise providing saleable goods or services.

Consumer use means the use of a chemical substance or a mixture containing a chemical substance (including as part of an article) when sold to or made available to consumers for their use.

e-CDRweb means the electronic, web-based tool provided by EPA for the completion and submission of the CDR data.

Industrial function means the intended physical or chemical characteristic for which a chemical substance or mixture is consumed as a reactant; incorporated into a formulation, mixture, reaction product, or article; repackaged; or used.

Industrial use means use at a site at which one or more chemical substances or mixtures are manufactured (including imported) or processed.

Intended for use by children means the chemical substance or mixture is used in or on a product that is specifically intended for use by children age 14 or younger. A chemical substance or mixture is intended for use by children when the submitter answers “yes” to at least one of the following questions for the product into which the submitter's chemical substance or mixture is incorporated:

(1) Is the product commonly recognized (i.e., by a reasonable person) as being intended for children age 14 or younger?

(2) Does the manufacturer of the product state through product labeling or other written materials that the product is intended for or will be used by children age 14 or younger?

(3) Is the advertising, promotion, or marketing of the product aimed at children age 14 or younger?

Manufacture means to manufacture, produce, or import, for commercial purposes. Manufacture includes the extraction, for commercial purposes, of a component chemical substance from a previously existing chemical substance or complex combination of chemical substances. When a chemical substance, manufactured other than by import, is:

(1) Produced exclusively for another person who contracts for such production, and

(2) That other person specifies the identity of the chemical substance and controls the total amount produced and the basic technology for the plant process, then that chemical substance is co-manufactured by the producing manufacturer and the person contracting for such production.

Manufacturer means a person who manufactures a chemical substance.

Master Inventory File means EPA's comprehensive list of chemical substances which constitutes the TSCA Inventory compiled under TSCA section 8(b). It includes chemical substances reported under 40 CFR part 710 and substances reported under 40 CFR part 720 for which a Notice of Commencement of Manufacture or Import has been received under 40 CFR 720.120.

Principal reporting year means the latest complete calendar year preceding the submission period.

Reasonably likely to be exposed means an exposure to a chemical substance which, under foreseeable conditions of manufacture (including import), processing, distribution in commerce, or use of the chemical substance, is more likely to occur than not to occur. Such exposures would normally include, but would not be limited to, activities such as charging reactor vessels, drumming, bulk loading, cleaning equipment, maintenance operations, materials handling and transfers, and analytical operations. Covered exposures include exposures through any route of entry (inhalation, ingestion, skin contact, absorption, etc.), but excludes accidental or theoretical exposures.

Repackaging means the physical transfer of a chemical substance or mixture, as is, from one container to another container or containers in preparation for distribution of the chemical substance or mixture in commerce.

Reportable chemical substance means a chemical substance described in § 711.5.

Site means a contiguous property unit. Property divided only by a public right-of-way shall be considered one site. More than one manufacturing plant may be located on a single site.

(1) For chemical substances manufactured under contract, i.e., by a toll manufacturer, the site is the location where the chemical substance is physically manufactured.

(2) The site for an importer who imports a chemical substance described in § 711.5 is the U.S. site of the operating unit within the person's organization that is directly responsible for importing the chemical substance. The import site, in some cases, may be the organization's headquarters in the United States. If there is no such operating unit or headquarters in the United States, the site address for the importer is the U.S. address of an agent acting on behalf of the importer who is authorized to accept service of process for the importer.

(3) For portable manufacturing units sent to different locations from a single distribution center, the distribution center shall be considered the site.

Site-limited means a chemical substance is manufactured and processed only within a site and is not distributed for commercial purposes as a chemical substance or as part of a mixture or article outside the site. Imported chemical substances are never site-limited. Although a site-limited chemical substance is not distributed for commercial purposes outside the site at which it is manufactured and processed, the chemical substance is considered to have been manufactured and processed for commercial purposes.

Submission period means the period in which the manufacturing, processing, and use data are submitted to EPA.

U.S. parent company means the highest level company, located in the United States, that directly owns at least 50% of the voting stock of the manufacturer.

Use means any utilization of a chemical substance or mixture that is not otherwise covered by the terms manufacture or process. Relabeling or redistributing a container holding a chemical substance or mixture where no repackaging of the chemical substance or mixture occurs does not constitute use or processing of the chemical substance or mixture.

§ 711.5 Chemical substances for which information must be reported.

Any chemical substance that is in the Master Inventory File at the beginning of a submission period described in § 711.20, unless the chemical substance is specifically excluded by § 711.6.

§ 711.6 Chemical substances for which information is not required.

The following groups or categories of chemical substances are exempted from some or all of the reporting requirements of this part, with the following exception: A chemical substance described in paragraph (a)(1), (a)(2), or (a)(4), or (b) of this section is not exempted from any of the reporting requirements of this part if that chemical substance is the subject of a rule proposed or promulgated under TSCA section 4, 5(a)(2), 5(b)(4), or 6, or is the subject of an enforceable consent agreement (ECA) developed under the procedures of 40 CFR part 790, or is the subject of an order issued under TSCA section 5(e) or 5(f), or is the subject of relief that has been granted under a civil action under TSCA section 5 or 7.

(a) Full exemptions. The following categories of chemical substances are exempted from the reporting requirements of this part.

(1) Polymers—(i) Any chemical substance described with the word fragments “*polym,” “*alkyd,” or “*oxylated” in the Chemical Abstracts (CA) Index Name in the Master Inventory File, where the asterisk (*) in the listed word fragments indicates that any sets of characters may precede, or follow, the character string defined.

(ii) Any chemical substance that is identified in the Master Inventory File as an enzyme, lignin, a polysaccharide (cellulose, gum, starch), a protein (albumin, casein, gelatin, gluten, hemoglobin), rubber, siloxane and silicone, or silsesquioxane.

(iii) This exclusion does not apply to a polymeric substance that has been depolymerized, hydrolyzed, or otherwise chemically modified, except in cases where the intended product of this reaction is totally polymeric in structure.

(2) Microorganisms. Any combination of chemical substances that is a living organism, and that meets the definition of microorganism at 40 CFR 725.3. Any chemical substance produced from a living microorganism is reportable under this part unless otherwise excluded.

(3) Naturally occurring chemical substances. Any naturally occurring chemical substance, as described in 40 CFR 710.4(b). The applicability of this exclusion is determined in each case by the specific activities of the person who manufactures the chemical substance in question. Some chemical substances can be manufactured both as described in 40 CFR 710.4(b) and by means other than those described in 40 CFR 710.4(b). If a person described in § 711.8 manufactures a chemical substance by means other than those described in 40 CFR 710.4(b), the person must report regardless of whether the chemical substance also could have been produced as described in 40 CFR 710.4(b). Any chemical substance that is produced from such a naturally occurring chemical substance described in 40 CFR 710.4(b) is reportable unless otherwise excluded.

(4) Certain forms of natural gas and water. Chemical substances with the following Chemical Abstracts Service Registry Number (CASRN): CASRN 7732-18-5, water; CASRN 8006-14-2, natural gas; CASRN 8006-61-9, gasoline, natural; CASRN 64741-48-6, natural gas (petroleum), raw liq. mix; CASRN 68410-63-9, natural gas, dried; CASRN 68425-31-0, gasoline (natural gas), natural; and CASRN 68919-39-1, natural gas condensates.

(b) Partial exemptions. The following groups of chemical substances are partially exempted from the reporting requirements of this part (i.e., the information described in § 711.15(b)(4) need not be reported for these chemical substances). Such chemical substances are not excluded from the other reporting requirements under this part.

(1) Petroleum process streams. EPA has designated the chemical substances listed in Table 1 of this paragraph by CASRN, as partially exempt from reporting under the IUR.

Table 1—CASRNs of Partially Exempt Chemical Substances Termed “Petroleum Process Streams” for Purposes of Inventory Update Reporting
CASRN | Product
8002-05-9 | Petroleum.
8002-74-2 | Paraffin waxes and hydrocarbon waxes.
8006-20-0 | Fuel gases, low and medium B.T.U.
8008-20-6 | Kerosine (petroleum).
8009-03-8 | Petrolatum.
8012-95-1 | Paraffin oils.
8030-30-6 | Naphtha.
8032-32-4 | Ligroine.
8042-47-5 | White mineral oil (petroleum).
8052-41-3 | Stoddard solvent.
8052-42-4 | Asphalt.
61789-60-4 | Pitch.
63231-60-7 | Paraffin waxes and hydrocarbon waxes, microcryst.
64741-41-9 | Naphtha (petroleum), heavy straight-run.
64741-42-0 | Naphtha (petroleum), full-range straight-run.
64741-43-1 | Gas oils (petroleum), straight-run.
64741-44-2 | Distillates (petroleum), straight-run middle.
64741-45-3 | Residues (petroleum), atm. tower.
64741-46-4 | Naphtha (petroleum), light straight-run.
64741-47-5 | Natural gas condensates (petroleum).
64741-49-7 | Condensates (petroleum), vacuum tower.
64741-50-0 | Distillates (petroleum), light paraffinic.
64741-51-1 | Distillates (petroleum), heavy paraffinic.
64741-52-2 | Distillates (petroleum), light naphthenic.
64741-53-3 | Distillates (petroleum), heavy naphthenic.
64741-54-4 | Naphtha (petroleum), heavy catalytic cracked.
64741-55-5 | Naphtha (petroleum), light catalytic cracked.
64741-56-6 | Residues (petroleum), vacuum.
64741-57-7 | Gas oils (petroleum), heavy vacuum.
64741-58-8 | Gas oils (petroleum), light vacuum.
64741-59-9 | Distillates (petroleum), light catalytic cracked.
64741-60-2 | Distillates (petroleum), intermediate catalytic cracked.
64741-61-3 | Distillates (petroleum), heavy catalytic cracked.
64741-62-4 | Clarified oils (petroleum), catalytic cracked.
64741-63-5 | Naphtha (petroleum), light catalytic reformed.
64741-64-6 | Naphtha (petroleum), full-range alkylate.
64741-65-7 | Naphtha (petroleum), heavy alkylate.
64741-66-8 | Naphtha (petroleum), light alkylate.
64741-67-9 | Residues (petroleum), catalytic reformer fractionator.
64741-68-0 | Naphtha (petroleum), heavy catalytic reformed.
64741-69-1 | Naphtha (petroleum), light hydrocracked.
64741-70-4 | Naphtha (petroleum), isomerization.
64741-73-7 | Distillates (petroleum), alkylate.
64741-74-8 | Naphtha (petroleum), light thermal cracked.
64741-75-9 | Residues (petroleum), hydrocracked.
64741-76-0 | Distillates (petroleum), heavy hydrocracked.
64741-77-1 | Distillates (petroleum), light hydrocracked.
64741-78-2 | Naphtha (petroleum), heavy hydrocracked.
64741-79-3 | Coke (petroleum).
64741-80-6 | Residues (petroleum), thermal cracked.
64741-81-7 | Distillates (petroleum), heavy thermal cracked.
64741-82-8 | Distillates (petroleum), light thermal cracked.
64741-83-9 | Naphtha (petroleum), heavy thermal cracked.
64741-84-0 | Naphtha (petroleum), solvent-refined light.
64741-85-1 | Raffinates (petroleum), sorption process.
64741-86-2 | Distillates (petroleum), sweetened middle.
64741-87-3 | Naphtha (petroleum), sweetened.
64741-88-4 | Distillates (petroleum), solvent-refined heavy paraffinic.
64741-89-5 | Distillates (petroleum), solvent-refined light paraffinic.
64741-90-8 | Gas oils (petroleum), solvent-refined.
64741-91-9 | Distillates (petroleum), solvent-refined middle.
64741-92-0 | Naphtha (petroleum), solvent-refined heavy.
64741-95-3 | Residual oils (petroleum), solvent deasphalted.
64741-96-4 | Distillates (petroleum), solvent-refined heavy naphthenic.
64741-97-5 | Distillates (petroleum), solvent-refined light naphthenic.
64741-98-6 | Extracts (petroleum), heavy naphtha solvent.
64741-99-7 | Extracts (petroleum), light naphtha solvent.
64742-01-4 | Residual oils (petroleum), solvent-refined.
64742-03-6 | Extracts (petroleum), light naphthenic distillate solvent.
64742-04-7 | Extracts (petroleum), heavy paraffinic distillate solvent.
64742-05-8 | Extracts (petroleum), light paraffinic distillate solvent.
64742-06-9 | Extracts (petroleum), middle distillate solvent.
64742-07-0 | Raffinates (petroleum), residual oil decarbonization.
64742-08-1 | Raffinates (petroleum), heavy naphthenic distillate decarbonization.
64742-09-2 | Raffinates (petroleum), heavy paraffinic distillate decarbonization.
64742-10-5 | Extracts (petroleum), residual oil solvent.
64742-11-6 | Extracts (petroleum), heavy naphthenic distillate solvent.
64742-12-7 | Gas oils (petroleum), acid-treated.
64742-13-8 | Distillates (petroleum), acid-treated middle.
64742-14-9 | Distillates (petroleum), acid-treated light.
64742-15-0 | Naphtha (petroleum), acid-treated.
64742-16-1 | Petroleum resins.
64742-18-3 | Distillates (petroleum), acid-treated heavy naphthenic.
64742-19-4 | Distillates (petroleum), acid-treated light naphthenic.
64742-20-7 | Distillates (petroleum), acid-treated heavy paraffinic.
64742-21-8 | Distillates (petroleum), acid-treated light paraffinic.
64742-22-9 | Naphtha (petroleum), chemically neutralized heavy.
64742-23-0 | Naphtha (petroleum), chemically neutralized light.
64742-24-1 | Sludges (petroleum), acid.
64742-25-2 | Lubricating oils (petroleum), acid-treated spent.
64742-26-3 | Hydrocarbon waxes (petroleum), acid-treated.
64742-27-4 | Distillates (petroleum), chemically neutralized heavy paraffinic.
64742-28-5 | Distillates (petroleum), chemically neutralized light paraffinic.
64742-29-6 | Gas oils (petroleum), chemically neutralized.
64742-30-9 | Distillates (petroleum), chemically neutralized middle.
64742-31-0 | Distillates (petroleum), chemically neutralized light.
64742-32-1 | Lubricating oils (petroleum), chemically neutralized spent.
64742-33-2 | Hydrocarbon waxes (petroleum), chemically neutralized.
64742-34-3 | Distillates (petroleum), chemically neutralized heavy naphthenic.
64742-35-4 | Distillates (petroleum), chemically neutralized light naphthenic.
64742-36-5 | Distillates (petroleum), clay-treated heavy paraffinic.
64742-37-6 | Distillates (petroleum), clay-treated light paraffinic.
64742-38-7 | Distillates (petroleum), clay-treated middle.
64742-39-8 | Neutralizing agents (petroleum), spent sodium carbonate.
64742-40-1 | Neutralizing agents (petroleum), spent sodium hydroxide.
64742-41-2 | Residual oils (petroleum), clay-treated.
64742-42-3 | Hydrocarbon waxes (petroleum), clay-treated microcryst.
64742-43-4 | Paraffin waxes (petroleum), clay-treated.
64742-44-5 | Distillates (petroleum), clay-treated heavy naphthenic.
64742-45-6 | Distillates (petroleum), clay-treated light naphthenic.
64742-46-7 | Distillates (petroleum), hydrotreated middle.
64742-47-8 | Distillates (petroleum), hydrotreated light.
64742-48-9 | Naphtha (petroleum), hydrotreated heavy.
64742-49-0 | Naphtha (petroleum), hydrotreated light.
64742-50-3 | Lubricating oils (petroleum), clay-treated spent.
64742-51-4 | Paraffin waxes (petroleum), hydrotreated.
64742-52-5 | Distillates (petroleum), hydrotreated heavy naphthenic.
64742-53-6 | Distillates (petroleum), hydrotreated light naphthenic.
64742-54-7 | Distillates (petroleum), hydrotreated heavy paraffinic.
64742-55-8 | Distillates (petroleum), hydrotreated light paraffinic.
64742-56-9 | Distillates (petroleum), solvent-dewaxed light paraffinic.
64742-57-0 | Residual oils (petroleum), hydrotreated.
64742-58-1 | Lubricating oils (petroleum), hydrotreated spent.
64742-59-2 | Gas oils (petroleum), hydrotreated vacuum.
64742-60-5 | Hydrocarbon waxes (petroleum), hydrotreated microcryst.
64742-61-6 | Slack wax (petroleum).
64742-62-7 | Residual oils (petroleum), solvent-dewaxed.
64742-63-8 | Distillates (petroleum), solvent-dewaxed heavy naphthenic.
64742-64-9 | Distillates (petroleum), solvent-dewaxed light naphthenic.
64742-65-0 | Distillates (petroleum), solvent-dewaxed heavy paraffinic.
64742-67-2 | Foots oil (petroleum).
64742-68-3 | Naphthenic oils (petroleum), catalytic dewaxed heavy.
64742-69-4 | Naphthenic oils (petroleum), catalytic dewaxed light.
64742-70-7 | Paraffin oils (petroleum), catalytic dewaxed heavy.
64742-71-8 | Paraffin oils (petroleum), catalytic dewaxed light.
64742-72-9 | Distillates (petroleum), catalytic dewaxed middle.
64742-73-0 | Naphtha (petroleum), hydrodesulfurized light.
64742-75-2 | Naphthenic oils (petroleum), complex dewaxed heavy.
64742-76-3 | Naphthenic oils (petroleum), complex dewaxed light.
64742-78-5 | Residues (petroleum), hydrodesulfurized atmospheric tower.
64742-79-6 | Gas oils (petroleum), hydrodesulfurized.
64742-80-9 | Distillates (petroleum), hydrodesulfurized middle.
64742-81-0 | Kerosine (petroleum), hydrodesulfurized.
64742-82-1 | Naphtha (petroleum), hydrodesulfurized heavy.
64742-83-2 | Naphtha (petroleum), light steam-cracked.
64742-85-4 | Residues (petroleum), hydrodesulfurized vacuum.
64742-86-5 | Gas oils (petroleum), hydrodesulfurized heavy vacuum.
64742-87-6 | Gas oils (petroleum), hydrodesulfurized light vacuum.
64742-88-7 | Solvent naphtha (petroleum), medium aliph.
64742-89-8 | Solvent naphtha (petroleum), light aliph.
64742-90-1 | Residues (petroleum), steam-cracked.
64742-91-2 | Distillates (petroleum), steam-cracked.
64742-92-3 | Petroleum resins, oxidized.
64742-93-4 | Asphalt, oxidized.
64742-94-5 | Solvent naphtha (petroleum), heavy arom.
64742-95-6 | Solvent naphtha (petroleum), light arom.
64742-96-7 | Solvent naphtha (petroleum), heavy aliph.
64742-97-8 | Distillates (petroleum), oxidized heavy.
64742-98-9 | Distillates (petroleum), oxidized light.
64742-99-0 | Residual oils (petroleum), oxidized.
64743-00-6 | Hydrocarbon waxes (petroleum), oxidized.
64743-01-7 | Petrolatum (petroleum), oxidized.
64743-02-8 | Alkenes, C>10 .alpha.-.
64743-03-9 | Phenols (petroleum).
64743-04-0 | Coke (petroleum), recovery.
64743-05-1 | Coke (petroleum), calcined.
64743-06-2 | Extracts (petroleum), gas oil solvent.
64743-07-3 | Sludges (petroleum), chemically neutralized.
64754-89-8 | Naphthenic acids (petroleum), crude.
64771-71-7 | Paraffins (petroleum), normal C>10.
64771-72-8 | Paraffins (petroleum), normal C5-20.
67254-74-4 | Naphthenic oils.
67674-12-8 | Residual oils (petroleum), oxidized, compounds with triethanolamine.
67674-13-9 | Petrolatum (petroleum), oxidized, partially deacidified.
67674-15-1 | Petrolatum (petroleum), oxidized, Me ester.
67674-16-2 | Hydrocarbon waxes (petroleum), oxidized, partially deacidified.
67674-17-3 | Distillates (petroleum), oxidized light, compounds with triethanolamine.
67674-18-4 | Distillates (petroleum), oxidized light, Bu esters.
67891-79-6 | Distillates (petroleum), heavy arom.
67891-80-9 | Distillates (petroleum), light arom.
67891-81-0 | Distillates (petroleum), oxidized light, potassium salts.
67891-82-1 | Hydrocarbon waxes (petroleum), oxidized, compounds with ethanolamine.
67891-83-2 | Hydrocarbon waxes (petroleum), oxidized, compounds with isopropanolamine.
67891-85-4 | Hydrocarbon waxes (petroleum), oxidized, compounds with triisopropanolamine.
67891-86-5 | Hydrocarbon waxes (petroleum), oxidized, compds. with diisopropanolamine.
68131-05-5 | Hydrocarbon oils, process blends.
68131-49-7 | Aromatic hydrocarbons, C6-10, acid-treated, neutralized.
68131-75-9 | Gases (petroleum), C3-4.
68153-22-0 | Paraffin waxes and Hydrocarbon waxes, oxidized.
68187-57-5 | Pitch, coal tar-petroleum.
68187-58-6 | Pitch, petroleum, arom.
68187-60-0 | Hydrocarbons, C4, ethane-propane-cracked.
68307-98-2 | Tail gas (petroleum), catalytic cracked distillate and catalytic cracked naphtha fractionation absorber.
68307-99-3 | Tail gas (petroleum), catalytic polymn. naphtha fractionation stabilizer.
68308-00-9 | Tail gas (petroleum), catalytic reformed naphtha fractionation stabilizer, hydrogen sulfide-free.
68308-01-0 | Tail gas (petroleum), cracked distillate hydrotreater stripper.
68308-02-1 | Tail gas (petroleum), distn., hydrogen sulfide-free.
68308-03-2 | Tail gas (petroleum), gas oil catalytic cracking absorber.
68308-04-3 | Tail gas (petroleum), gas recovery plant.
68308-05-4 | Tail gas (petroleum), gas recovery plant deethanizer.
68308-06-5 | Tail gas (petroleum), hydrodesulfurized distillate and hydrodesulfurized naphtha fractionator, acid-free.
68308-07-6 | Tail gas (petroleum), hydrodesulfurized vacuum gas oil stripper, hydrogen sulfide-free.
68308-08-7 | Tail gas (petroleum), isomerized naphtha fractionation stabilizer.
68308-09-8 | Tail gas (petroleum), light straight-run naphtha stabilizer, hydrogen sulfide-free.
68308-10-1 | Tail gas (petroleum), straight-run distillate hydrodesulfurizer, hydrogen sulfide-free.
68308-11-2 | Tail gas (petroleum), propane-propylene alkylation feed prep deethanizer.
68308-12-3 | Tail gas (petroleum), vacuum gas oil hydrodesulfurizer, hydrogen sulfide-free.
68308-27-0 | Fuel gases, refinery.
68333-22-2 | Residues (petroleum), atmospheric.
68333-23-3 | Naphtha (petroleum), heavy coker.
68333-24-4 | Hydrocarbon waxes (petroleum), oxidized, compds. with triethanolamine.
68333-25-5 | Distillates (petroleum), hydrodesulfurized light catalytic cracked.
68333-26-6 | Clarified oils (petroleum), hydrodesulfurized catalytic cracked.
68333-27-7 | Distillates (petroleum), hydrodesulfurized intermediate catalytic cracked.
68333-28-8 | Distillates (petroleum), hydrodesulfurized heavy catalytic cracked.
68333-29-9 | Residues (petroleum), light naphtha solvent extracts.
68333-30-2 | Distillates (petroleum), oxidized heavy thermal cracked.
68333-81-3 | Alkanes, C4-12.
68333-88-0 | Aromatic hydrocarbons, C9-17.
68334-30-5 | Fuels, diesel.
68409-99-4 | Gases (petroleum), catalytic cracked overheads.
68410-00-4 | Distillates (petroleum), crude oil.
68410-05-9 | Distillates (petroleum), straight-run light.
68410-12-8 | Distillates (petroleum), steam-cracked, C5-10 fraction, high-temperature stripping products with light steam-cracked petroleum naphtha C5 fraction polymers.
68410-71-9 | Raffinates (petroleum), catalytic reformer ethylene glycol-water countercurrent exts.
68410-96-8 | Distillates (petroleum), hydrotreated middle, intermediate boiling.
68410-97-9 | Distillates (petroleum), light distillate hydrotreating process, low-boiling.
68410-98-0 | Distillates (petroleum), hydrotreated heavy naphtha, deisohexanizer overheads.
68411-00-7 | Alkenes, C>8.
68425-29-6 | Distillates (petroleum), naphtha-raffinate pyrolyzate-derived, gasoline-blending.
68425-33-2 | Petrolatum (petroleum), oxidized, barium salt.
68425-34-3 | Petrolatum (petroleum), oxidized, calcium salt.
68425-35-4 | Raffinates (petroleum), reformer, Lurgi unit-sepd.
68425-39-8 | Alkenes, C>10 .alpha.-, oxidized.
68441-09-8 | Hydrocarbon waxes (petroleum), clay-treated microcryst., contg. polyethylene, oxidized.
68459-78-9 | Alkenes, C18-24 .alpha.-, dimers.
68475-57-0 | Alkanes, C1-2.
68475-58-1 | Alkanes, C2-3.
68475-59-2 | Alkanes, C3-4.
68475-60-5 | Alkanes, C4-5.
68475-61-6 | Alkenes, C5, naphtha-raffinate pyrolyzate-derived.
68475-70-7 | Aromatic hydrocarbons, C6-8, naphtha-raffinate pyrolyzate-derived.
68475-79-6 | Distillates (petroleum), catalytic reformed depentanizer.
68475-80-9 | Distillates (petroleum), light steam-cracked naphtha.
68476-26-6 | Fuel gases.
68476-27-7 | Fuel gases, amine system residues.
68476-28-8 | Fuel gases, C6-8 catalytic reformer.
68476-29-9 | Fuel gases, crude oil distillates.
68476-30-2 | Fuel oil, no. 2.
68476-31-3 | Fuel oil, no. 4.
68476-32-4 | Fuel oil, residues-straight-run gas oils, high-sulfur.
68476-33-5 | Fuel oil, residual.
68476-34-6 | Fuels, diesel, no. 2.
68476-39-1 | Hydrocarbons, aliph.-arom.-C4-5-olefinic.
68476-40-4 | Hydrocarbons, C3-4.
68476-42-6 | Hydrocarbons, C4-5.
68476-43-7 | Hydrocarbons, C4-6, C5-rich.
68476-44-8 | Hydrocarbons, C>3.
68476-45-9 | Hydrocarbons, C5-10 arom. conc., ethylene-manuf.-by-product.
68476-46-0 | Hydrocarbons, C3-11, catalytic cracker distillates.
68476-47-1 | Hydrocarbons, C2-6, C6-8 catalytic reformer.
68476-49-3 | Hydrocarbons, C2-4, C3-rich.
68476-50-6 | Hydrocarbons, C≥5, C5-6-rich.
68476-52-8 | Hydrocarbons, C4, ethylene-manuf.-by-product.
68476-53-9 | Hydrocarbons, C≥20, petroleum wastes.
68476-54-0 | Hydrocarbons, C3-5, polymn. unit feed.
68476-55-1 | Hydrocarbons, C5-rich.
68476-56-2 | Hydrocarbons, cyclic C5 and C6.
68476-77-7 | Lubricating oils, refined used.
68476-81-3 | Paraffin waxes and Hydrocarbon waxes, oxidized, calcium salts.
68476-84-6 | Petroleum products, gases, inorg.
68476-85-7 | Petroleum gases, liquefied.
68476-86-8 | Petroleum gases, liquefied, sweetened.
68477-25-8 | Waste gases, vent gas, C1-6.
68477-26-9 | Wastes, petroleum.
68477-29-2 | Distillates (petroleum), catalytic reformer fractionator residue, high-boiling.
68477-30-5 | Distillates (petroleum), catalytic reformer fractionator residue, intermediate-boiling.
68477-31-6 | Distillates (petroleum), catalytic reformer fractionator residue, low-boiling.
68477-33-8 | Gases (petroleum), C3-4, isobutane-rich.
68477-34-9 | Distillates (petroleum), C3-5, 2-methyl-2-butene-rich.
68477-35-0 | Distillates (petroleum), C3-6, piperylene-rich.
68477-36-1 | Distillates (petroleum), cracked steam-cracked, C5-18 fraction.
68477-38-3 | Distillates (petroleum), cracked steam-cracked petroleum distillates.
68477-39-4 | Distillates (petroleum), cracked stripped steam-cracked petroleum distillates, C8-10 fraction.
68477-40-7 | Distillates (petroleum), cracked stripped steam-cracked petroleum distillates, C10-12 fraction.
68477-41-8 | Gases (petroleum), extractive, C3-5, butadiene-butene-rich.
68477-42-9 | Gases (petroleum), extractive, C3-5, butene-isobutylene-rich.
68477-44-1 | Distillates (petroleum), heavy naphthenic, mixed with steam-cracked petroleum distillates C5-12 fraction.
68477-47-4 | Distillates (petroleum), mixed heavy olefin vacuum, heart-cut.
68477-48-5 | Distillates (petroleum), mixed heavy olefin vacuum, low-boiling.
68477-53-2 | Distillates (petroleum), steam-cracked, C5-12 fraction.
68477-54-3 | Distillates (petroleum), steam-cracked, C8-12 fraction.
68477-55-4 | Distillates (petroleum), steam-cracked, C5-10 fraction, mixed with light steam-cracked petroleum naphtha C5 fraction.
68477-58-7 | Distillates (petroleum), steam-cracked petroleum distillates, C5-18 fraction.
68477-59-8 | Distillates (petroleum), steam-cracked petroleum distillates cyclopentadiene conc.
68477-60-1 | Extracts (petroleum), cold-acid.
68477-61-2 | Extracts (petroleum), cold-acid, C4-6.
68477-62-3 | Extracts (petroleum), cold-acid, C3-5, butene-rich.
68477-63-4 | Extracts (petroleum), reformer recycle.
68477-64-5 | Gases (petroleum), acetylene manuf. off.
68477-65-6 | Gases (petroleum), amine system feed.
68477-66-7 | Gases (petroleum), benzene unit hydrodesulfurizer off.
68477-67-8 | Gases (petroleum), benzene unit recycle, hydrogen-rich.
68477-68-9 | Gases (petroleum), blend oil, hydrogen-nitrogen-rich.
68477-69-0 | Gases (petroleum), butane splitter overheads.
68477-70-3 | Gases (petroleum), C2-3.
68477-71-4 | Gases (petroleum), catalytic-cracked gas oil depropanizer bottoms, C4-rich acid-free.
68477-72-5 | Gases (petroleum), catalytic-cracked naphtha debutanizer bottoms, C3-5-rich.
68477-73-6 | Gases (petroleum), catalytic cracked naphtha depropanizer overhead, C3-rich acid-free.
68477-74-7 | Gases (petroleum), catalytic cracker.
68477-75-8 | Gases (petroleum), catalytic cracker, C1-5-rich.
68477-76-9 | Gases (petroleum), catalytic polymd. naphtha stabilizer overhead, C2-4-rich.
68477-77-0 | Gases (petroleum), catalytic reformed naphtha stripper overheads.
68477-79-2 | Gases (petroleum), catalytic reformer, C1-4-rich.
68477-80-5 | Gases (petroleum), C6-8 catalytic reformer recycle.
68477-81-6 | Gases (petroleum), C6-8 catalytic reformer.
68477-82-.7 | Gases (petroleum), C6-8 catalytic reformer recycle, hydrogen-rich.
68477-83-8 | Gases (petroleum), C3-5 olefinic-paraffinic alkylation feed.
68477-84-9 | Gases (petroleum), C2-return stream.
68477-85-0 | Gases (petroleum), C4-rich.
68477-86-1. | Gases (petroleum), deethanizer overheads.
68477-87-2. | Gases (petroleum), deisobutanizer tower overheads.
68477-88-3 | Gases (petroleum), deethanizer overheads, C3-rich.
68477-89-4 | Distillates (petroleum), depentanizer overheads.
68477-90-7 | Gases (petroleum), depropanizer dry, propene-rich.
68477-91-8 | Gases (petroleum), depropanizer overheads.
68477-92-9 | Gases (petroleum), dry sour, gas-concentration concn.-unit-off.
68477-93-0 | Gases (petroleum), gas concn. reabsorber distn.
68477-94-1 | Gases (petroleum), gas recovery plant depropanizer overheads
68477-95-2 | Gases (petroleum), Girbatol unit feed.
68477-96-3 | Gases (petroleum), hydrogen absorber off.
68477-97-4 | Gases (petroleum), hydrogen-rich.
68477-98-5 | Gases (petroleum), hydrotreater blend oil recycle, hydrogen-nitrogen rich.
68477-99-6 | Gases (petroleum), isomerized naphtha fractionater, C4-rich, hydrogen sulfide-free.
68478-00-2 | Gases (petroleum), recycle, hydrogen-rich.
68478-01-3 | Gases (petroleum), reformer make-up, hydrogen-rich.
68478-02-4 | Gases (petroleum), reforming hydrotreater.
68478-03-5 | Gases (petroleum), reforming hydrotreater, hydrogen-methane-rich.
68478-04-6 | Gases (petroleum), reforming hydrotreater make-up, hydrogen-rich.
68478-05-7 | Gases (petroleum), thermal cracking distn.
68478-08-0 | Naphtha (petroleum), light steam-cracked, C5-fraction, oligomer conc.
68478-10-4 | Naphtha (petroleum), light steam-cracked, debenzenized, C8-16-cycloalkadiene conc.
68478-12-6 | Residues (petroleum), butane splitter bottoms.
68478-13-7 | Residues (petroleum), catalytic reformer fractionator residue distn.
68478-15-9 | Residues (petroleum), C6-8 catalytic reformer.
68478-16-0 | Residual oils (petroleum), deisobutanizer tower.
68478-17-1 | Residues (petroleum), heavy coker gas oil and vacuum gas oil.
68478-18-2 | Residues (petroleum), heavy olefin vacuum.
68478-19-3 | Residual oils (petroleum), propene purifn. splitter.
68478-20-6 | Residues (petroleum), steam-cracked petroleum distillates cyclopentadiene conc., C4-cyclopentadiene-free.
68478-22-8 | Tail gas (petroleum), catalytic cracked naphtha stabilization absorber.
68478-24-0 | Tail gas (petroleum), catalytic cracker, catalytic reformer and hydrodesulfurizer combined fractionater.
68478-25-1 | Tail gas (petroleum), catalytic cracker refractionation absorber.
68478-26-2 | Tail gas (petroleum), catalytic reformed naphtha fractionation stabilizer.
68478-27-3 | Tail gas (petroleum), catalytic reformed naphtha separator.
68478-28-4 | Tail gas (petroleum), catalytic reformed naphtha stabilizer.
68478-29-5 | Tail gas (petroleum), cracked distillate hydrotreater separator.
68478-30-8 | Tail gas (petroleum), hydrodesulfurized straight-run naphtha separator.
68478-31-9 | Tail gas (petroleum), isomerized naphtha fractionates, hydrogen sulfide-free.
68478-32-0 | Tail gas (petroleum), saturate gas plant mixed stream, C4-rich.
68478-33-1 | Tail gas (petroleum), saturate gas recovery plant, C1-2-rich.
68478-34-2 | Tail gas (petroleum), vacuum residues thermal cracker.
68512-61-8 | Residues (petroleum), heavy coker and light vacuum.
68512-62-9 | Residues (petroleum), light vacuum.
68512-78-7 | Solvent naphtha (petroleum), light arom., hydrotreated.
68512-91-4 | Hydrocarbons, C3-4-rich, petroleum distillates.
68513-02-0 | Naphtha (petroleum), full-range coker.
68513-03-1 | Naphtha (petroleum), light catalytic reformed, arom.-free.
68513-11-1 | Fuel gases, hydrotreater fractionation, scrubbed.
68513-12-2 | Fuel gases, saturate gas unit fractionater-absorber overheads.
68513-13-3 | Fuel gases, thermal cracked catalytic cracking residue.
68513-14-4 | Gases (petroleum), catalytic reformed straight-run naphtha stabilizer overheads.
68513-15-5 | Gases (petroleum), full-range straight-run naphtha dehexanizer off.
68513-16-6 | Gases (petroleum), hydrocracking depropanizer off, hydrocarbon-rich.
68513-17-7 | Gases (petroleum), light straight-run naphtha stabilizer off.
68513-18-8 | Gases (petroleum), reformer effluent high-pressure flash drum off.
68513-19-9 | Gases (petroleum), reformer effluent low-pressure flash drum off.
68513-62-2 | Disulfides, C5-12-alkyl.
68513-63-3 | Distillates (petroleum), catalytic reformed straight-run naphtha overheads.
68513-65-5 | Butane, branched and linear.
68513-66-6 | Residues (petroleum), alkylation splitter, C4-rich.
68513-67-7 | Residues (petroleum), cyclooctadiene bottoms.
68513-68-8 | Residues (petroleum), deethanizer tower.
68513-69-9 | Residues (petroleum), steam-cracked light.
68513-74-6 | Waste gases, ethylene oxide absorber-reactor.
68514-15-8 | Gasoline, vapor-recovery.
68514-29-4 | Hydrocarbons, amylene feed debutanizer overheads non-extractable raffinates.
68514-31-8 | Hydrocarbons, C1-4.
68514-32-9 | Hydrocarbons, C10 and C12, olefin-rich.
68514-33-0 | Hydrocarbons, C12 and C14, olefin-rich.
68514-34-1 | Hydrocarbons, C9-14, ethylene-manuf.-by-product.
68514-35-2 | Hydrocarbons, C14-30, olefin-rich.
68514-36-3 | Hydrocarbons, C1-4, sweetened.
68514-37-4 | Hydrocarbons, C4-5-unsatd..
68514-38-5 | Hydrocarbons, C4-10-unsatd..
68514-39-6 | Naphtha (petroleum), light steam-cracked, isoprene-rich.
68514-79-4 | Petroleum products, hydrofiner-powerformer reformates.
68515-25-3 | Benzene, C1-9-alkyl derivs.
68515-26-4 | Benzene, di-C12-14-alkyl derivs.
68515-27-5 | Benzene, di-C10-14-alkyl derivs., fractionation overheads, heavy ends.
68515-28-6 | Benzene, di-C10-14-alkyl derivs., fractionation overheads, light ends.
68515-29-7 | Benzene, di-C10-14-alkyl derivs., fractionation overheads, middle cut.
68515-30-0 | Benzene, mono-C20-48-alkyl derivs.
68515-32-2 | Benzene, mono-C12-14-alkyl derivs., fractionation bottoms.
68515-33-3 | Benzene, mono-C10-12-alkyl derivs., fractionation bottoms, heavy ends.
68515-34-4 | Benzene, mono-C12-14-alkyl derivs., fractionation bottoms, heavy ends.
68515-35-5 | Benzene, mono-C10-12-alkyl derivs., fractionation bottoms, light ends.
68515-36-6 | Benzene, mono-C12-14-alkyl derivs., fractionation bottoms, light ends.
68516-20-1 | Naphtha (petroleum), steam-cracked middle arom.
68526-52-3 | Alkenes, C6.
68526-53-4 | Alkenes, C6-8, C7-rich.
68526-54-5 | Alkenes, C7-9, C8-rich.
68526-55-6 | Alkenes, C8-10, C9-rich.
68526-56-7 | Alkenes, C9-11, C10-rich.
68526-57-8 | Alkenes, C10-12, C11-rich.
68526-58-9 | Alkenes, C11-13, C12-rich.
68526-77-2 | Aromatic hydrocarbons, ethane cracking scrubber effluent and flare drum.
68526-99-8 | Alkenes, C6-9 .alpha.-.
68527-00-4 | Alkenes, C8-9 .alpha.-.
68527-11-7 | Alkenes, C5.
68527-13-9 | Gases (petroleum), acid, ethanolamine scrubber.
68527-14-0 | Gases (petroleum), methane-rich off.
68527-15-1 | Gases (petroleum), oil refinery gas distn. off.
68527-16-2 | Hydrocarbons, C1-3.
68527-18-4 | Gas oils (petroleum), steam-cracked.
68527-19-5 | Hydrocarbons, C1-4, debutanizer fraction.
68527-21-9 | Naphtha (petroleum), clay-treated full-range straight-run.
68527-22-0 | Naphtha (petroleum), clay-treated light straight-run.
68527-23-1 | Naphtha (petroleum), light steam-cracked arom.
68527-26-4 | Naphtha (petroleum), light steam-cracked, debenzenized.
68527-27-5 | Naphtha (petroleum), full-range alkylate, butane-contg.
68553-00-4 | Fuel oil, no. 6.
68553-14-0 | Hydrocarbons, C8-11.
68602-79-9 | Distillates (petroleum), benzene unit hydrotreater dipentanizer overheads.
68602-81-3 | Distillates, hydrocarbon resin prodn. higher boiling.
68602-82-4 | Gases (petroleum), benzene unit hydrotreater depentenizer overheads.
68602-83-5 | Gases (petroleum), C1-5, wet.
68602-84-6 | Gases (petroleum), secondary absorber off, fluidized catalytic cracker overheads fractionater.
68602-96-0 | Distillates (petroleum), oxidized light, strong acid components, compds. with diethanolamine.
68602-97-1 | Distillates (petroleum), oxidized light, strong acid components, sodium salts.
68602-98-2 | Distillates (petroleum), oxidized light, strong acid components.
68602-99-3 | Distillates (petroleum), oxidized light, strong acid-free.
68603-00-9 | Distillates (petroleum), thermal cracked naphtha and gas oil.
68603-01-0 | Distillates (petroleum), thermal cracked naphtha and gas oil, C5-dimer-contg.
68603-02-1 | Distillates (petroleum), thermal cracked naphtha and gas oil, dimerized.
68603-03-2 | Distillates (petroleum), thermal cracked naphtha and gas oil, extractive.
68603-08-7 | Naphtha (petroleum), arom.- contg.
68603-09-8 | Hydrocarbon waxes (petroleum), oxidized, calcium salts.
68603-10-1 | Hydrocarbon waxes (petroleum), oxidized, Me esters, barium salts.
68603-11-2 | Hydrocarbon waxes (petroleum), oxidized, Me esters, calcium salts.
68603-12-3 | Hydrocarbon waxes (petroleum), oxidized, Me esters, sodium salts.
68603-13-4 | Petrolatum (petroleum), oxidized, ester with sorbitol.
68603-14-5 | Residual oils (petroleum), oxidized, calcium salts.
68603-31-6 | Alkenes, C10, tert-amylene concentrator by-product.
68603-32-7 | Alkenes, C15-20 .alpha.-, isomerized.
68606-09-7 | Fuel gases, expander off.
68606-10-0 | Gasoline, pyrolysis, debutanizer bottoms.
68606-11-1 | Gasoline, straight-run, topping-plant.
68606-24-6 | Hydrocarbons, C4, butene concentrator by-product.
68606-25-7 | Hydrocarbons, C2-4.
68606-26-8 | Hydrocarbons, C3.
68606-27-9 | Gases (petroleum), alkylation feed.
68606-28-0 | Hydrocarbons, C5 and C10-aliph. and C6-8-arom.
68606-31-5 | Hydrocarbons, C3-5, butadiene purification (purifn.) by-product.
68606-34-8 | Gases (petroleum), depropanizer bottoms fractionation off.
68606-36-0 | Hydrocarbons, C5-unsatd. rich, isoprene purifn. by-product.
68607-11-4 | Petroleum products, refinery gases.
68607-30-7 | Residues (petroleum), topping plant, low-sulfur.
68608-56-0 | Waste gases, from carbon black manuf.
68647-60-9 | Hydrocarbons, C>4.
68647-61-0 | Hydrocarbons, C4-5, tert-amylene concentrator by-product.
68647-62-1 | Hydrocarbons, C4-5, butene concentrator by-product, sour.
68650-36-2 | Aromatic hydrocarbons, C8, o-xylene-lean.
68650-37-3 | Paraffin waxes (petroleum), oxidized, sodium salts.
68782-97-8 | Distillates (petroleum), hydrofined lubricating-oil.
68782-98-9 | Extracts (petroleum), clarified oil solvent, condensed-ring-arom.-contg.
68782-99-0 | Extracts (petroleum), heavy clarified oil solvent, condensed-ring-arom.-contg.
68783-00-6 | Extracts (petroleum), heavy naphthenic distillate solvent, arom. conc.
68783-01-7 | Extracts (petroleum), heavy naphthenic distillate solvent, paraffinic conc.
68783-02-8 | Extracts (petroleum), intermediate clarified oil solvent, condensed-ring-arom.-contg.
68783-04-0 | Extracts (petroleum), solvent-refined heavy paraffinic distillate solvent.
68783-05-1 | Gases (petroleum), ammonia-hydrogen sulfide, water-satd.
68783-06-2 | Gases (petroleum), hydrocracking low-pressure separator.
68783-07-3 | Gases (petroleum), refinery blend.
68783-08-4 | Gas oils (petroleum), heavy atmospheric.
68783-09-5 | Naphtha (petroleum), catalytic cracked light distd.
68783-12-0 | Naphtha (petroleum), unsweetened.
68783-13-1 | Residues (petroleum), coker scrubber, condensed-ring-arom.-contg.
68783-15-3 | Alkenes, C6-7 .alpha.-.
68783-61-9 | Fuel gases, refinery, sweetened.
68783-62-0 | Fuel gases, refinery, unsweetened.
68783-64-2 | Gases (petroleum), catalytic cracking.
68783-65-3 | Gases (petroleum), C2-4, sweetened.
68783-66-4 | Naphtha (petroleum), light, sweetened.
68814-47-1 | Waste gases, refinery vent.
68814-67-5 | Gases (petroleum), refinery.
68814-87-9 | Distillates (petroleum), full-range straight-run middle.
68814-89-1 | Extracts (petroleum), heavy paraffinic distillates, solvent-deasphalted.
68814-90-4 | Gases (petroleum), platformer products separator off.
68814-91-5 | Alkenes, C5-9 .alpha.-.
68855-57-2 | Alkenes, C6-12 .alpha.-.
68855-58-3 | Alkenes, C10-16 .alpha.-.
68855-59-4 | Alkenes, C14-18 .alpha.-.
68855-60-7 | Alkenes, C14-20 .alpha.-.
68911-58-0 | Gases (petroleum), hydrotreated sour kerosine depentanizer stabilizer off.
68911-59-1 | Gases (petroleum), hydrotreated sour kerosine flash drum.
68915-96-8 | Distillates (petroleum), heavy straight-run.
68915-97-9 | Gas oils (petroleum), straight-run, high-boiling.
68918-69-4 | Petrolatum (petroleum), oxidized, zinc salt.
68918-73-0 | Residues (petroleum), clay-treating filter wash.
68918-93-4 | Paraffin waxes and Hydrocarbon waxes, oxidized, alkali metal salts.
68918-98-9 | Fuel gases, refinery, hydrogen sulfide-free.
68918-99-0 | Gases (petroleum), crude oil fractionation off.
68919-00-6 | Gases (petroleum), dehexanizer off.
68919-01-7 | Gases (petroleum), distillate unifiner desulfurization stripper off.
68919-02-8 | Gases (petroleum), fluidized catalytic cracker fractionation off.
68919-03-9 | Gases (petroleum), fluidized catalytic cracker scrubbing secondary absorber off.
68919-04-0 | Gases (petroleum), heavy distillate hydrotreater desulfurization stripper off.
68919-05-1 | Gases (petroleum), light straight run gasoline fractionation stabilizer off.
68919-06-2 | Gases (petroleum), naphtha unifiner desulfurization stripper off.
68919-07-3 | Gases (petroleum), platformer stabilizer off, light ends fractionation.
68919-08-4 | Gases (petroleum), preflash tower off, crude distn.
68919-09-5 | Gases (petroleum), straight-run naphtha catalytic reforming off.
68919-10-8 | Gases (petroleum), straight-run stabilizer off.
68919-11-9 | Gases (petroleum), tar stripper off.
68919-12-0 | Gases (petroleum), unifiner stripper off.
68919-15-3 | Hydrocarbons, C6-12, benzene-recovery.
68919-16-4 | Hydrocarbons, catalytic alkylation, by-products, C3-6.
68919-17-5 | Hydrocarbons, C12-20, catalytic alkylation by-products.
68919-19-7 | Gases (petroleum), fluidized catalytic cracker splitter residues.
68919-20-0 | Gases (petroleum), fluidized catalytic cracker splitter overheads.
68919-37-9 | Naphtha (petroleum), full-range reformed.
68920-06-9 | Hydrocarbons, C7-9.
68920-07-0 | Hydrocarbons, C<10-linear.
68920-64-9 | Disulfides, di-C1-2-alkyl.
68921-07-3 | Distillates (petroleum), hydrotreated light catalytic cracked.
68921-08-4 | Distillates (petroleum), light straight-run gasoline fractionation stabilizer overheads.
68921-09-5 | Distillates (petroleum), naphtha unifiner stripper.
68921-67-5 | Hydrocarbons, ethylene-manuf.-by-product distn. residues.
68952-76-1 | Gases (petroleum), catalytic cracked naphtha debutanizer.
68952-77-2 | Tail gas (petroleum), catalytic cracked distillate and naphtha stabilizer.
68952-78-3 | Tail gas (petroleum), catalytic hydrodesulfurized distillate fractionation stabilizer, hydrogen sulfide-free.
68952-79-4 | Tail gas (petroleum), catalytic hydrodesulfurized naphtha separator.
68952-80-7 | Tail gas (petroleum), straight-run naphtha hydrodesulfurizer.
68952-81-8 | Tail gas (petroleum), thermal-cracked distillate, gas oil and naphtha absorber.
68952-82-9 | Tail gas (petroleum), thermal cracked hydrocarbon fractionation stabilizer, petroleum coking.
68953-80-0 | Benzene, mixed with toluene, dealkylation product.
68955-27-1 | Distillates (petroleum), petroleum residues vacuum.
68955-28-2 | Gases (petroleum), light steam-cracked, butadiene conc.
68955-31-7 | Gases (petroleum), butadiene process, inorg.
68955-32-8 | Natural gas, substitute, steam-reformed desulfurized naphtha.
68955-33-9 | Gases (petroleum), sponge absorber off, fluidized catalytic cracker and gas oil desulfurizer overhead fractionation.
68955-34-0 | Gases (petroleum), straight-run naphtha catalytic reformer stabilizer overhead.
68955-35-1 | Naphtha (petroleum), catalytic reformed.
68955-36-2 | Residues (petroleum), steam-cracked, resinous.
68955-76-0 | Aromatic hydrocarbons, C9-16, biphenyl deriv.-rich.
68955-96-4 | Disulfides, dialkyl and di-Ph, naphtha sweetening.
68956-47-8 | Fuel oil, isoprene reject absorption.
68956-48-9 | Fuel oil, residual, wastewater skimmings.
68956-52-5 | Hydrocarbons, C4-8.
68956-54-7 | Hydrocarbons, C4-unsatd.
68956-55-8 | Hydrocarbons, C5-unsatd.
68956-70-7 | Petroleum products, C5-12, reclaimed, wastewater treatment.
68988-79-4 | Benzene, C10-12-alkyl derivs., distn. residues.
68988-99-8 | Phenols, sodium salts, mixed with sulfur compounds, gasoline alk. scrubber residues.
68989-88-8 | Gases (petroleum), crude distn. and catalytic cracking.
68990-35-2 | Distillates (petroleum), arom., hydrotreated, dicyclopentadiene-rich.
68991-49-1 | Alkanes, C10-13, arom.-free desulfurized.
68991-50-4 | Alkanes, C14-17, arom.-free desulfurized.
68991-51-5 | Alkanes, C10-13, desulfurized.
68991-52-6 | Alkenes, C10-16.
69013-21-4 | Fuel oil, pyrolysis.
69029-75-0 | Oils, reclaimed.
69430-33-7 | Hydrocarbons, C6-30.
70024-88-3 | Ethene, thermal cracking products.
70528-71-1 | Distillates (petroleum), heavy distillate solvent ext. heart-cut.
70528-72-2 | Distillates (petroleum), heavy distillate solvent ext. vacuum overheads.
70528-73-3 | Residues (petroleum), heavy distillate solvent ext. vacuum.
70592-76-6 | Distillates (petroleum), intermediate vacuum.
70592-77-7 | Distillates (petroleum), light vacuum.
70592-78-8 | Distillates (petroleum), vacuum.
70592-79-9 | Residues (petroleum), atm. tower, light.
70693-00-4 | Hydrocarbon waxes (petroleum), oxidized, sodium salts.
70693-06-0 | Aromatic hydrocarbons, C9-11.
70913-85-8 | Residues (petroleum), solvent-extd. vacuum distilled atm. residuum.
70913-86-9 | Alkanes, C18-70.
70955-08-7 | Alkanes, C4-6.
70955-09-8 | Alkenes, C13-14 .alpha.-.
70955-10-1 | Alkenes, C15-18 .alpha.-.
70955-17-8 | Aromatic hydrocarbons, C12-20.
71243-66-8 | Hydrocarbon waxes (petroleum), clay-treated, microcryst., oxidized, potassium salts.
71302-82-4 | Hydrocarbons, C5-8, houdry butadiene manuf. by-product.
71329-37-8 | Residues (petroleum), catalytic cracking depropanizer, C4-rich.
71808-30-5 | Tail gas (petroleum), thermal cracking absorber.
72230-71-8 | Distillates (petroleum), cracked steam-cracked, C5-17 fraction.
72623-83-7 | Lubricating oils (petroleum), C>25, hydrotreated bright stock-based.
72623-84-8 | Lubricating oils (petroleum), C15-30, hydrotreated neutral oil-based, contg. solvent deasphalted residual oil.
72623-85-9 | Lubricating oils (petroleum), C20-50, hydrotreated neutral oil-based, high-viscosity.
72623-86-0 | Lubricating oils (petroleum), C15-30, hydrotreated neutral oil-based.
72623-87-1 | Lubricating oils (petroleum), C20-50, hydrotreated neutral oil-based.
73138-65-5 | Hydrocarbon waxes (petroleum), oxidized, magnesium salts.
92045-43-7 | Lubricating oils (petroleum), hydrocracked non-arom. solvent deparaffined.
92045-58-4 | Naphtha (petroleum), isomerization, C6-fraction.
92062-09-4 | Slack wax (petroleum), hydrotreated.
93762-80-2 | Alkenes, C15-18.
98859-55-3 | Distillates (petroleum), oxidized heavy, compds. with diethanolamine.
98859-56-4 | Distillates (petroleum), oxidized heavy, sodium salts.
101316-73-8 | Lubricating oils (petroleum), used, non-catalytically refined.
164907-78-2 | Extracts (petroleum), asphaltene-low vacuum residue solvent.
164907-79-3 | Residues (petroleum), vacuum, asphaltene-low.
178603-63-9 | Gas oils (petroleum), vacuum, hydrocracked, hydroisomerized, hydrogenated, C10-25.
178603-64-0 | Gas oils (petroleum), vacuum, hydrocracked, hydroisomerized, hydrogenated, C15-30, branched and cyclic.
178603-65-1 | Gas oils (petroleum), vacuum, hydrocracked, hydroisomerized, hydrogenated, C20-40, branched and cyclic.
178603-66-2 | Gas oils (petroleum), vacuum, hydrocracked, hydroisomerized, hydrogenated, C25-55, branched and cyclic.
212210-93-0 | Solvent naphtha (petroleum), heavy arom., distn. residues.
221120-39-4 | Distillates (petroleum), cracked steam-cracked, C5-12 fraction.
445411-73-4 | Gas oils (petroleum), vacuum, hydrocracked, hydroisomerized, hydrogenated, C10-25, branched and cyclic.

(2) Specific exempted chemical substances—(i) Exemption. EPA has determined that, at this time, the information in § 711.15(b)(4) associated with the chemical substances listed in paragraph (b)(2)(iv) of this section is of low current interest.

(ii) Considerations. In making its determination of whether this partial exemption should apply to a particular chemical substance, EPA will consider the totality of information available for the chemical substance in question, including but not limited to, one or more of the following considerations:

(A) Whether the chemical substance qualifies or has qualified in past IUR collections for the reporting of the information described in § 711.15(b)(4).

(B) The chemical substance's chemical and physical properties or potential for persistence, bioaccumulation, health effects, or environmental effects (considered independently or together).

(C) The information needs of EPA, other Federal agencies, Tribes, States, and local governments, as well as members of the public.

(D) The availability of other complementary risk screening information.

(E) The availability of comparable processing and use information.

(F) Whether the potential risks of the chemical substance are adequately managed.

(iii) Amendments. EPA may amend the chemical substance list in paragraph (b)(2)(iv) of this section on its own initiative or in response to a request from the public based on EPA's determination of whether the information in § 711.15(b)(4) is of low interest.

(A) Any person may request that EPA amend the chemical substance list in Table 2 in paragraph (b)(2)(iv) of this section. Your request must be in writing and must be submitted to the following address: OPPT IUR Submission Coordinator (7407M), Attention: Inventory Update Reporting, Office of Pollution Prevention and Toxics, Environmental Protection Agency, 1200 Pennsylvania Ave., NW., Washington, DC 20460-0001. Requests must identify the chemical substance in question, as well as its CASRN or other chemical identification number as identified in § 711.15(b)(3)(i), and must contain a written rationale for the request that provides sufficient specific information, addressing the considerations listed in § 711.6(b)(2)(ii), including cites and relevant documents, to demonstrate to EPA that the collection of the information in § 711.15(b)(4) for the chemical substance in question either is or is not of low current interest. If a request related to a particular chemical substance is resubmitted, any subsequent request must clearly identify new information contained in the request. EPA may request other information that it believes necessary to evaluate the request. EPA will issue a written response to each request within 120 days of receipt of the request, and will maintain copies of these responses in a docket that will be established for each reporting cycle.

(B) As needed, the Agency will initiate rulemaking to make revisions to Table 2 in paragraph (b)(2)(iv) of this section.

(C) To assist EPA in reaching a decision regarding a particular request prior to a given principal reporting year, requests must be submitted to EPA no later than 12 months prior to the start of the next principal reporting year.

(iv) List of chemical substances. EPA has designated the chemical substances listed in Table 2 of this paragraph by CASRN, as partially exempt from reporting under the IUR.

Table 2—CASRN of Partially Exempt Chemical Substances
CASRN | Chemical
50-70-4 | D-glucitol.
50-81-7 | L-ascorbic acid.
50-99-7 | D-glucose.
56-81-5 | 1,2,3-Propanetriol.
56-87-1 | L-lysine.
57-50-1 | .alpha.-D-Glucopyranoside, .beta.-D-fructofuranosyl.
58-95-7 | 2H-1-Benzopyran-6-ol, 3,4-dihydro-2,5,7,8-tetramethyl-2-[(4R,8R)-4,8,12- trimethyltridecyl]-, acetate, (2R)-.
59-02-9 | 2H-1-Benzopyran-6-ol, 3,4-dihydro-2,5,7,8-tetramethyl-2-[(4R,8R)-4,8,12- trimethyltridecyl]-, (2R)-.
59-51-8 | Methionine.
69-65-8 | D-mannitol.
87-79-6 | L-sorbose.
87-99-0 | Xylitol.
96-10-6 | Aluminum, chlorodiethyl-.
97-93-8 | Aluminum, triethyl-.
100-99-2 | Aluminum, tris(2-methylpropyl)-.
123-94-4 | Octadecanoic acid, 2,3-dihydroxypropyl ester.
124-38-9 | Carbon dioxide.
137-08-6 | .beta.-Alanine, N-[(2R)-2,4-dihydroxy-3,3-dimethyl-1-oxobutyl]-, calcium alt (2:1).
142-47-2 | L-glutamic acid, monosodium salt.
150-30-1 | Phenylalanine.
563-43-9 | Aluminum, dichloroethyl-.
1070-00-4 | Aluminum, trioctyl-.
1116-70-7 | Aluminum, tributyl-.
1116-73-0 | Aluminum, trihexyl-.
1191-15-7 | Aluminum, hydrobis(2-methylpropyl)-.
1317-65-3 | Limestone.
1333-74-0 | Hydrogen.
1592-23-0 | Octadecanoic acid, calcium salt.
7440-37-1 | Argon.
7440-44-0 | Carbon.
7727-37-9 | Nitrogen.
7782-42-5 | Graphite.
7782-44-7 | Oxygen.
8001-21-6 | Sunflower oil.
8001-22-7 | Soybean oil.
8001-23-8 | Safflower oil.
8001-26-1 | Linseed oil.
8001-29-4 | Cottonseed oil.
8001-30-7 | Corn oil.
8001-31-8 | Coconut oil.
8001-78-3 | Castor oil, hydrogenated.
8001-79-4 | Castor oil.
8002-03-7 | Peanut oil.
8002-13-9 | Rape oil.
8002-43-5 | Lecithins.
8002-75-3 | Palm oil.
8006-54-0 | Lanolin.
8016-28-2 | Lard, oil.
8016-70-4 | Soybean oil, hydrogenated.
8021-99-6 | Charcoal, bone.
8029-43-4 | Syrups, hydrolyzed starch.
11103-57-4 | Vitamin A.
12075-68-2 | Aluminum, di-.mu.-chlorochlorotriethyldi-.
12542-85-7 | Aluminum, trichlorotrimethyldi-.
16291-96-6 | Charcoal.
26836-47-5 | D-glucitol, monooctadecanoate.
61789-44-4 | Fatty acids, castor-oil.
61789-97-7 | Tallow.
61789-99-9 | Lard.
64147-40-6 | Castor oil, dehydrated.
64755-01-7 | Fatty acids, tallow, calcium salts.
65996-63-6 | Starch, acid-hydrolyzed.
65996-64-7 | Starch, enzyme-hydrolyzed.
67701-01-3 | Fatty acids, C12-18.
68002-85-7 | Fatty acids, C14-22 and C16-22-unsatd.
68131-37-3 | Syrups, hydrolyzed starch, dehydrated.
68188-81-8 | Grease, poultry.
68308-36-1 | Soybean meal.
68308-54-3 | Glycerides, tallow mono-, di- and tri-, hydrogenated.
68334-00-9 | Cottonseed oil, hydrogenated.
68334-28-1 | Fats and glyceridic oils, vegetable, hydrogenated.
68409-76-7 | Bone meal, steamed.
68424-45-3 | Fatty acids, linseed-oil.
68424-61-3 | Glycerides, C16-18 and C18-unsatd. mono- and di-.
68425-17-2 | Syrups, hydrolyzed starch, hydrogenated
68439-86-1 | Bone, ash.
68442-69-3 | Benzene, mono-C10-14-alkyl derivs.
68476-78-8 | Molasses.
68514-27-2 | Grease, catch basin.
68514-74-9 | Palm oil, hydrogenated.
68525-87-1 | Corn oil, hydrogenated.
68648-87-3 | Benzene, C10-16-alkyl derivs.
68918-42-3 | Soaps, stocks, soya.
68952-94-3 | Soaps, stocks, vegetable-oil.
68956-68-3 | Fats and glyceridic oils, vegetable.
68989-98-0 | Fats and glyceridic oils, vegetable, residues.
73138-67-7 | Lard, hydrogenated.
120962-03-0 | Canola oil.
129813-58-7 | Benzene, mono-C10-13-alkyl derivs.
129813-59-8 | Benzene, mono-C12-14-alkyl derivs.
129813-60-1 | Benzene, mono-C14-16-alkyl derivs.

§ 711.8 Persons who must report.

Except as provided in §§ 711.9 and 711.10, the following persons are subject to the requirements of this part. Persons must determine whether they must report under this section for each chemical substance that they manufacture (including import) at an individual site.

(a) Persons subject to recurring reporting—(1) For the 2012 submission period, any person who manufactured (including imported) for commercial purposes 25,000 lb (11,340 kilogram (kg)) or more of a chemical substance described in § 711.5 at any single site owned or controlled by that person during the principal reporting year (i.e., calendar year 2011) is subject to reporting.

(2) For the submission periods subsequent to the 2012 submission period, any person who manufactured (including imported) for commercial purposes 25,000 lb (11,340 kg) or more of a chemical substance described in § 711.5 at any single site owned or controlled by that person during any calendar year since the last principal reporting year (e.g., for the 2016 submission period, consider calendar years 2012, 2013, 2014, and 2015, given that 2011 was the last principal reporting year).

(b) Exceptions. For the 2016 submission period and subsequent submission periods, any person who manufactured (including imported) for commercial purposes any chemical substance that is the subject of a rule proposed or promulgated under TSCA section 5(a)(2), 5(b)(4), or 6, or is the subject of an order in effect under TSCA section 5(e) or 5(f), or is the subject of relief that has been granted under a civil action under TSCA section 5 or 7 is subject to reporting as described in § 711.8(a), except that the applicable production volume threshold is 2,500 lb (1,134 kg).

§ 711.9 Persons not subject to this part.

A person described in § 711.8 is not subject to the requirements of this part if that person qualifies as a small manufacturer as that term is defined in 40 CFR 704.3. Notwithstanding this exclusion, a person who qualifies as a small manufacturer is subject to this part with respect to any chemical substance that is the subject of a rule proposed or promulgated under TSCA section 4, 5(b)(4), or 6, or is the subject of an order in effect under TSCA section 5(e), or is the subject of relief that has been granted under a civil action under TSCA section 5 or 7.

§ 711.10 Activities for which reporting is not required.

A person described in § 711.8 is not subject to the requirements of this part with respect to any chemical substance described in § 711.5 that the person solely manufactured or imported under the following circumstances:

(a) The person manufactured or imported the chemical substance described in § 711.5 solely in small quantities for research and development.

(b) The person imported the chemical substance described in § 711.5 as part of an article.

(c) The person manufactured the chemical substance described in § 711.5 in a manner described in 40 CFR 720.30(g) or (h).

§ 711.15 Reporting information to EPA.

For the 2012 submission period, any person who must report under this part, as described in § 711.8, must submit the information described in this section for each chemical substance described in § 711.5 that the person manufactured (including imported) for commercial purposes in an amount of 25,000 lb (11,340 kg) or more at any one site during the principal reporting year (i.e., calendar year 2011). For the submission periods subsequent to the 2012 submission period, any person who must report under this part, as described in § 711.8, must submit the information described in this section for each chemical substance described in § 711.5 that the person manufactured (including imported) for commercial purposes in an amount of 25,000 lb (11,340 kg) or more (or in an amount of 2,500 lb (1,134 kg) or more for chemical substances subject to the rules, orders, or actions described in § 711.8(b)) at any one site during any calendar year since the last principal reporting year (e.g., for the 2016 submission period, consider calendar years 2012, 2013, 2014, and 2015, because 2011 was the last principal reporting year). The principal reporting year for each submission period is the previous calendar year (e.g., the principal reporting year for the 2016 submission period is calendar year 2015). For all submission periods, a separate report must be submitted for each chemical substance at each site for which the submitter is required to report. A submitter of information under this part must report information as described in this section to the extent that such information is known to or reasonably ascertainable by that person.

(a) Reporting information to EPA. Any person who reports information to EPA must do so using the e-CDRweb reporting tool provided by EPA at the address set forth in § 711.35. The submission must include all information described in paragraph (b) of this section. Persons must submit a separate Form U for each site for which the person is required to report. The e-CDRweb reporting tool is described in the instructions available from EPA at the Web site set forth in § 711.35.

(b) Information to be reported. For the 2012 submission period, manufacturers (including importers) of a reportable chemical substance in an amount of 25,000 lb (11,340 kg) or more at a site during the principal reporting year (i.e., 2011) must report the information described in paragraphs (b)(1), (b)(2), and (b)(3) of this section. For the 2012 submission period, manufacturers (including importers) of a reportable chemical substance in an amount of 100,000 lb (45,359 kg) or more at a site during the principal reporting year (i.e., 2011) must additionally report the information described in paragraph (b)(4) of this section. For submission periods subsequent to the 2012 submission period, the information described in paragraphs (b)(1), (b)(2), (b)(3), and (b)(4) of this section must be reported for each chemical substance manufactured (including imported) in an amount of 25,000 lb (11,340 kg) or more (or in an amount of 2,500 lb (1,134 kg) or more for chemical substances subject to the rules, orders, or actions described in § 711.8(b)) at any one site during any calendar year since the last principal reporting year. The requirement to report information described in paragraph (b)(4) of this section is subject to exemption as described in § 711.6.

(1) A certification statement signed and dated by an authorized official of the submitter company. The authorized official must certify that the submitted information has been completed in compliance with the requirements of this part and that the confidentiality claims made on the Form U are true and correct. The certification must be signed and dated by the authorized official for the submitter company, and provide that person's name, official title, and e-mail address.

(2) Company and plant site information. The following currently correct company and plant site information must be reported for each site at which a reportable chemical substance is manufactured (including imported) above the applicable production volume threshold, as described in this section (see § 711.3 for the “site” for importers):

(i) The U.S. parent company name, address, and Dun and Bradstreet D-U-N-S® (D&B) number. A submitter under this part must obtain a D&B number for the U.S. parent company if none exists.

(ii) The name of a person who will serve as technical contact for the submitter company, and who will be able to answer questions about the information submitted by the company to EPA, the contact person's full mailing address, telephone number, and e-mail address.

(iii) The name and full street address of each site. A submitter under this part must include the appropriate D&B number for each plant site reported, and the county or parish (or other jurisdictional indicator) in which the plant site is located. A submitter under this part must obtain a D&B number for the site reported if none exists.

(3) Chemical-specific information. The following chemical-specific information must be reported for each reportable chemical substance manufactured (including imported) above the applicable production volume threshold, as described in paragraph (b) of this section:

(i) The specific, currently correct CA Index name as used to list the chemical substance on the TSCA Inventory and the correct corresponding CASRN for each reportable chemical substance at each site. A submitter under this part may use an EPA-designated TSCA Accession Number for a chemical substance in lieu of a CASRN when a CASRN is not known to or reasonably ascertainable by the submitter. Submitters who wish to report chemical substances listed on the confidential portion of the TSCA Inventory will need to report the chemical substance using a TSCA Accession Number.

In addition to reporting the number itself, submitters must specify the type of number they are reporting by selecting from among the codes in Table 3 of this paragraph.

Table 3—Codes To Specify Type of Chemical Identifying Number
Code | Number type
A | TSCA Accession Number.
C | Chemical Abstracts Service Registry Number (CASRN).

(A) If an importer submitting a report cannot provide the information specified in § 711.15(b)(3)(i) because it is unknown to the importer and claimed as confidential by the supplier of the chemical substance or mixture, the importer must use e-CDRweb to ask the supplier to provide the correct chemical identity information directly to EPA in a joint submission. Such request must include instructions for submitting chemical identity information electronically, using e-CDRweb and CDX (see § 711.35), and for clearly referencing the importer's submission. Contact information for the supplier, a trade name or other designation for the chemical substance or mixture, and a copy of the request to the supplier must be included with the importer's submission respecting the chemical substance.

(B) If a manufacturer submitting a report cannot provide the information specified in § 711.15(b)(3)(i) because the reportable chemical substance is manufactured using a reactant having a specific chemical identity that is unknown to the manufacturer and claimed as confidential by its supplier, the manufacturer must use e-CDRweb to ask the supplier of the confidential reactant to provide the correct chemical identity of the confidential reactant directly to EPA in a joint submission. Such request must include instructions for submitting chemical identity information electronically using e-CDRweb and CDX (see § 711.35), and for clearly referencing the manufacturer's submission. Contact information for the supplier, a trade name or other designation for the chemical substance, and a copy of the request to the supplier must be included with the importer's submission respecting the chemical substance.

(C) EPA will only accept joint submissions that are submitted electronically using e-CDRweb and CDX (see § 711.35) and that clearly reference the primary submission to which they refer.

(ii) For the principal reporting year only, a statement indicating, for each reportable chemical substance at each site, whether the chemical substance is manufactured in the United States, imported into the United States, or both manufactured in the United States and imported into the United States.

(iii) For the principal reporting year, the total annual volume (in pounds) of each reportable chemical substance domestically manufactured or imported at each site. The total annual domestically manufactured volume (not including imported volume) and the total annual imported volume must be separately reported. These amounts must be reported to two significant figures of accuracy. In addition, for the 2012 submission period only, the total annual volume (domestically manufactured plus imported volumes in pounds) of each reportable chemical substance at each site during calendar year 2010. In addition, for submission periods subsequent to the 2012 submission period, the total annual volume (domestically manufactured plus imported volumes in pounds) of each reportable chemical substance at each site for each complete calendar year since the last principal reporting year.

(iv) For the principal reporting year only, the volume used on site and the volume directly exported of each reportable chemical substance domestically manufactured or imported at each site. These amounts must be reported to two significant figures of accuracy.

(v) For the principal reporting year only, a designation indicating, for each imported reportable chemical substance at each site, whether the imported chemical substance is physically present at the reporting site.

(vi) For the principal reporting year only, a designation indicating, for each reportable chemical substance at each site, whether the chemical substance is being recycled, remanufactured, reprocessed, reused, or otherwise used for a commercial purpose instead of being disposed of as a waste or included in a waste stream.

(vii) For the principal reporting year only, the total number of workers reasonably likely to be exposed to each reportable chemical substance at each site. For each reportable chemical substance at each site, the submitter must select from among the ranges of workers listed in Table 4 of this paragraph and report the corresponding code (i.e., W1 through W8):

Table 4—Codes for Reporting Number of Workers Reasonably Likely To Be Exposed
Code | Range
W1 | Fewer than 10 workers.
W2 | At least 10 but fewer than 25 workers.
W3 | At least 25 but fewer than 50 workers.
W4 | At least 50 but fewer than 100 workers.
W5 | At least 100 but fewer than 500 workers.
W6 | At least 500 but fewer than 1,000 workers.
W7 | At least 1,000 but fewer than 10,000 workers.
W8 | At least 10,000 workers.

(viii) For the principal reporting year only, the maximum concentration, measured by percentage of weight, of each reportable chemical substance at the time it is sent off-site from each site. If the chemical substance is site-limited, you must report the maximum concentration, measured by percentage of weight of the reportable chemical substance at the time it is reacted on-site to produce a different chemical substance. This information must be reported regardless of the physical form(s) in which the chemical substance is sent off-site/reacted on-site. For each chemical substance at each site, select the maximum concentration of the chemical substance from among the ranges listed in Table 5 of this paragraph and report the corresponding code (i.e., M1 through M5):

Table 5—Codes for Reporting Maximum Concentration of Chemical Substance
Code | Concentration range (% weight)
M1 | Less than 1% by weight.
M2 | At least 1 but less than 30% by weight.
M3 | At least 30 but less than 60% by weight.
M4 | At least 60 but less than 90% by weight.
M5 | At least 90% by weight.

(ix) For the principal reporting year only, the physical form(s) of the reportable chemical substance as it is sent off-site from each site. If the chemical substance is site-limited, you must report the physical form(s) of the reportable chemical substance at the time it is reacted on-site to produce a different chemical substance. For each chemical substance at each site, the submitter must report as many physical forms as applicable from among the physical forms listed in this unit:

(A) Dry powder.

(B) Pellets or large crystals.

(C) Water- or solvent-wet solid.

(D) Other solid.

(E) Gas or vapor.

(F) Liquid.

(x) For the principal reporting year only, submitters must report the percentage, rounded off to the closest 10%, of total production volume of the reportable chemical substance, reported in response to paragraph (b)(3)(iii) of this section, that is associated with each physical form reported under paragraph (b)(3)(ix) of this section.

(4) Chemical-specific information related to processing and use. The following chemical-specific information must be reported for each reportable chemical substance manufactured (including imported) above the applicable production volume threshold, as described in this section. Persons subject to paragraph (b)(4) of this section must report the information described in paragraphs (b)(4)(i) and (b)(4)(ii) of this section for each reportable chemical substance at sites under their control and at sites that receive a reportable chemical substance from the submitter directly or indirectly (including through a broker/distributor, from a customer of the submitter, etc.). Information reported in response to this paragraph must be reported for the principal reporting year only and only to the extent that it is known to or reasonably ascertainable by the submitter. Information required to be reported under this paragraph is limited to domestic (i.e., within the customs territory of the United States) processing and use activities. If information responsive to a given data requirement under this paragraph, including information in the form of an estimate, is not known or reasonably ascertainable, the submitter is not required to respond to the requirement.

(i) Industrial processing and use information—(A) A designation indicating the type of industrial processing or use operation(s) at each site that receives a reportable chemical substance from the submitter site directly or indirectly (whether the recipient site(s) are controlled by the submitter site or not). For each chemical substance, report the letters which correspond to the appropriate processing or use operation(s) listed in Table 6 of this paragraph. A particular designation may need to be reported more than once, to the extent that a submitter reports more than one sector (under paragraph (b)(4)(i)(B) of this section) that applies to a given designation under this paragraph.

Table 6—Codes for Reporting Type of Industrial Processing or Use Operation
Designation | Operation
PC | Processing as a reactant.
PF | Processing—incorporation into formulation, mixture, or reaction product.
PA | Processing—incorporation into article.
PK | Processing—repackaging.
U | Use—non-incorporative activities.

(B) A code indicating the sector(s) that best describe the industrial activities associated with each industrial processing or use operation reported under paragraph (b)(4)(i)(A) of this section. For each chemical substance, report the code that corresponds to the appropriate sector(s) listed in Table 7 of this paragraph. A particular sector code may need to be reported more than once, to the extent that a submitter reports more than one industrial function code (under paragraph (b)(4)(i)(C) of this section) that applies to a given sector code under this paragraph.

Table 7—Codes for Reporting Industrial Sectors
Code | Sector description
IS1 | Agriculture, forestry, fishing, and hunting.
IS2 | Oil and gas drilling, extraction, and support activities.
IS3 | Mining (except oil and gas) and support activities.
IS4 | Utilities.
IS5 | Construction.
IS6 | Food, beverage, and tobacco product manufacturing.
IS7 | Textiles, apparel, and leather manufacturing.
IS8 | Wood product manufacturing.
IS9 | Paper manufacturing.
IS10 | Printing and related support activities.
IS11 | Petroleum refineries.
IS12 | Asphalt paving, roofing, and coating materials manufacturing.
IS13 | Petroleum lubricating oil and grease manufacturing.
IS14 | All other petroleum and coal products manufacturing.
IS15 | Petrochemical manufacturing.
IS16 | Industrial gas manufacturing.
IS17 | Synthetic dye and pigment manufacturing.
IS18 | Carbon black manufacturing.
IS19 | All other basic inorganic chemical manufacturing.
IS20 | Cyclic crude and intermediate manufacturing.
IS21 | All other basic organic chemical manufacturing.
IS22 | Plastics material and resin manufacturing.
IS23 | Synthetic rubber manufacturing.
IS24 | Organic fiber manufacturing.
IS25 | Pesticide, fertilizer, and other agricultural chemical manufacturing.
IS26 | Pharmaceutical and medicine manufacturing.
IS27 | Paint and coating manufacturing.
IS28 | Adhesive manufacturing.
IS29 | Soap, cleaning compound, and toilet preparation manufacturing.
IS30 | Printing ink manufacturing.
IS31 | Explosives manufacturing.
IS32 | Custom compounding of purchased resins.
IS33 | Photographic film, paper, plate, and chemical manufacturing.
IS34 | All other chemical product and preparation manufacturing.
IS35 | Plastics product manufacturing.
IS36 | Rubber product manufacturing.
IS37 | Non-metallic mineral product manufacturing (includes cement, clay, concrete, glass, gypsum, lime, and other non-metallic mineral product manufacturing).
IS38 | Primary metal manufacturing.
IS39 | Fabricated metal product manufacturing.
IS40 | Machinery manufacturing.
IS41 | Computer and electronic product manufacturing.
IS42 | Electrical equipment, appliance, and component manufacturing.
IS43 | Transportation equipment manufacturing.
IS44 | Furniture and related product manufacturing.
IS45 | Miscellaneous manufacturing.
IS46 | Wholesale and retail trade.
IS47 | Services.
IS48 | Other (requires additional information).

(C) For each sector reported under paragraph (b)(4)(i)(B) of this section, code(s) from Table 8 of this paragraph must be selected to designate the industrial function category(ies) that best represents the specific manner in which the chemical substance is used. A particular industrial function category may need to be reported more than once, to the extent that a submitter reports more than one industrial processing or use operation/sector combination (under paragraphs (b)(4)(i)(A) and (b)(4)(i)(B) of this section) that applies to a given industrial function category under this paragraph. If more than 10 unique combinations of industrial processing or use operations/sector/industrial function categories apply to a chemical substance, submitters need only report the 10 unique combinations for the chemical substance that cumulatively represent the largest percentage of the submitter's production volume for that chemical substance, measured by weight. If none of the listed industrial function categories accurately describes a use of a chemical substance, the category “Other” may be used, and must include a description of the use.

Table 8—Codes for Reporting Industrial Function Categories
Code | Category
U001 | Abrasives.
U002 | Adhesives and sealant chemicals.
U003 | Adsorbents and absorbents.
U004 | Agricultural chemicals (non-pesticidal).
U005 | Anti-adhesive agents.
U006 | Bleaching agents.
U007 | Corrosion inhibitors and anti-scaling agents.
U008 | Dyes.
U009 | Fillers.
U010 | Finishing agents.
U011 | Flame retardants.
U012 | Fuels and fuel additives.
U013 | Functional fluids (closed systems).
U014 | Functional fluids (open systems).
U015 | Intermediates.
U016 | Ion exchange agents.
U017 | Lubricants and lubricant additives.
U018 | Odor agents.
U019 | Oxidizing/reducing agents.
U020 | Photosensitive chemicals.
U021 | Pigments.
U022 | Plasticizers.
U023 | Plating agents and surface treating agents.
U024 | Process regulators.
U025 | Processing aids, specific to petroleum production.
U026 | Processing aids, not otherwise listed.
U027 | Propellants and blowing agents.
U028 | Solids separation agents.
U029 | Solvents (for cleaning or degreasing).
U030 | Solvents (which become part of product formulation or mixture).
U031 | Surface active agents.
U032 | Viscosity adjustors.
U033 | Laboratory chemicals.
U034 | Paint additives and coating additives not described by other categories.
U999 | Other (specify).

(D) The estimated percentage, rounded off to the closest 10%, of total production volume of the reportable chemical substance associated with each combination of industrial processing or use operation, sector, and industrial function category. Where a particular combination of industrial processing or use operation, sector, and industrial function category accounts for less than 5% of the submitter's site's total production volume of a reportable chemical substance, the percentage must not be rounded off to 0% if the production volume attributable to that industrial processing or use operation, sector, and industrial function category combination is 25,000 lb (11,340 kg) or more during the reporting year. Instead, in such a case, submitters must report the percentage, rounded off to the closest 1%, of the submitter's site's total production volume of the reportable chemical substance associated with the particular combination of industrial processing or use operation, sector, and industrial function category.

(E) For each combination of industrial processing or use operation, sector, and industrial function category, the submitter must estimate the number of sites at which each reportable chemical substance is processed or used. For each combination associated with each chemical substance, the submitter must select from among the ranges of sites listed in Table 9 of this paragraph and report the corresponding code (i.e., S1 through S7):

Table 9—Codes for Reporting Numbers of Sites
Code | Range
S1 | Fewer than 10 sites.
S2 | At least 10 but fewer than 25 sites.
S3 | At least 25 but fewer than 100 sites.
S4 | At least 100 but fewer than 250 sites.
S5 | At least 250 but fewer than 1,000 sites.
S6 | At least 1,000 but fewer than 10,000 sites.
S7 | At least 10,000 sites.

(F) For each combination of industrial processing or use operation, sector, and industrial function category, the submitter must estimate the number of workers reasonably likely to be exposed to each reportable chemical substance. For each combination associated with each chemical substance, the submitter must select from among the worker ranges listed in paragraph (b)(3)(ii) of this section and report the corresponding code (i.e., W1 though W8).

(ii) Consumer and commercial use information—(A) Using the codes listed in Table 10 of this paragraph, submitters must designate the consumer and commercial product category or categories that best describe the consumer and commercial products in which each reportable chemical substance is used (whether the recipient site(s) are controlled by the submitter site or not). If more than 10 codes apply to a chemical substance, submitters need only report the 10 codes for the chemical substance that cumulatively represent the largest percentage of the submitter's production volume for that chemical, measured by weight. If none of the listed consumer and commercial product categories accurately describes the consumer and commercial products in which each reportable chemical substance is used, the category “Other” may be used, and must include a description of the use.

Table 10—Codes for Reporting Consumer and Commercial Product Categories
Code | Category
Chemical Substances in Furnishing, Cleaning, Treatment Care Products
C101 | Floor coverings.
C102 | Foam seating and bedding products.
C103 | Furniture and furnishings not covered elsewhere.
C104 | Fabric, textile, and leather products not covered elsewhere.
C105 | Cleaning and furnishing care products.
C106 | Laundry and dishwashing products.
C107 | Water treatment products.
C108 | Personal care products.
C109 | Air care products.
C110 | Apparel and footwear care products.
Chemical Substances in Construction, Paint, Electrical, and Metal Products
C201 | Adhesives and sealants.
C202 | Paints and coatings.
C203 | Building/construction materials—wood and engineered wood products.
C204 | Building/construction materials not covered elsewhere.
C205 | Electrical and electronic products.
C206 | Metal products not covered elsewhere.
C207 | Batteries.
Chemical Substances in Packaging, Paper, Plastic, Toys, Hobby Products
C301 | Food packaging.
C302 | Paper products.
C303 | Plastic and rubber products not covered elsewhere.
C304 | Toys, playground, and sporting equipment.
C305 | Arts, crafts, and hobby materials.
C306 | Ink, toner, and colorant products.
C307 | Photographic supplies, film, and photochemicals.
Chemical Substances in Automotive, Fuel, Agriculture, Outdoor Use Products
C401 | Automotive care products.
C402 | Lubricants and greases.
C403 | Anti-freeze and de-icing products.
C404 | Fuels and related products.
C405 | Explosive materials.
C406 | Agricultural products (non-pesticidal).
C407 | Lawn and garden care products.
Chemical Substances in Products not Described by Other Codes
C980 | Non-TSCA use.
C909 | Other (specify).

(B) An indication, within each consumer and commercial product category reported under paragraph (b)(4)(ii)(A) of this section, whether the use is a consumer or a commercial use.

(C) Submitters must determine, within each consumer and commercial product category reported under paragraph (b)(4)(ii)(A) of this section, whether any amount of each reportable chemical substance manufactured (including imported) by the submitter is present in (for example, a plasticizer chemical substance used to make pacifiers) or on (for example, as a component in the paint on a toy) any consumer products intended for use by children age 14 or younger, regardless of the concentration of the chemical substance remaining in or on the product. Submitters must select from the following options: The chemical substance is used in or on any consumer products intended for use by children, the chemical substance is not used in or on any consumer products intended for use by children, or information as to whether the chemical substance is used in or on any consumer products intended for use by children is not known to or reasonably ascertainable by the submitter.

(D) The estimated percentage, rounded off to the closest 10%, of the submitter's site's total production volume of the reportable chemical substance associated with each consumer and commercial product category. Where a particular consumer and commercial product category accounts for less than 5% of the total production volume of a reportable chemical substance, the percentage must not be rounded off to 0% if the production volume attributable to that commercial and consumer product category is 25,000 lb (11,340 kg) or more during the reporting year. Instead, in such a case, submitters must report the percentage, rounded off to the closest 1%, of the submitter's site's total production volume of the reportable chemical substance associated with the particular consumer and commercial product category.

(E) Where the reportable chemical substance is used in consumer or commercial products, the estimated typical maximum concentration, measured by weight, of the chemical substance in each consumer and commercial product category reported under paragraph (b)(4)(ii)(A) of this section. For each chemical substance in each commercial and consumer product category reported under paragraph (b)(4)(ii)(A) of this section, submitters must select from among the ranges of concentrations listed in Table 5 in paragraph (b)(3)(viii) of this section and report the corresponding code (i.e., M1 through M5).

(F) Where the reportable chemical substance is used in a commercial product, the submitter must estimate the number of commercial workers reasonably likely to be exposed to each reportable chemical substance. For each combination associated with each substance, the submitter must select from among the worker ranges listed in Table 4 in paragraph (b)(3)(vii) of this section and report the corresponding code (i.e., W1 though W8).

§ 711.20 When to report.

All information reported to EPA in response to the requirements of this part must be submitted during an applicable submission period. For the 2012 IUR, the submission period is from February 1, 2012 to June 30, 2012. Subsequent recurring submission periods are from June 1 to September 30 at 4-year intervals, beginning in 2016. In each submission period, any person described in § 711.8 must report as described in this part.

§ 711.22 Duplicative reporting.

(a) With regard to TSCA section 8(a) rules. Any person subject to the requirements of this part who previously has complied with reporting requirements of a rule under TSCA section 8(a) by submitting the information described in § 711.15 for a chemical substance described in § 711.5 to EPA, and has done so within 1 year of the start of a submission period described in § 711.20, is not required to report again on the manufacture of that chemical substance at that site during that submission period.

(b) With regard to importers. This part requires that only one report be submitted on each import transaction involving a chemical substance described in § 711.5. When two or more persons are involved in a particular import transaction and each person meets the Agency's definition of “importer” as set forth in 40 CFR 704.3, they may determine among themselves who should submit the required report; if no report is submitted as required under this part, EPA will hold each such person liable for failure to report.

(c) Toll manufacturers and persons contracting with a toll manufacturer. This part requires that only one report per site be submitted on each chemical substance described in § 711.5. When a company contracts with a toll manufacturer to manufacture a chemical substance, and each party meets the Agency's definition of “manufacturer” as set forth in § 711.3, they may determine among themselves who should submit the required report for that site. However, both the contracting company and the toll manufacturer are liable if no report is made.

§ 711.25 Recordkeeping requirements.

Each person who is subject to the reporting requirements of this part must retain records that document any information reported to EPA. Records relevant to reporting during a submission period must be retained for a period of 5 years beginning on the last day of the submission period. Submitters are encouraged to retain their records longer than 5 years to ensure that past records are available as a reference when new submissions are being generated.

§ 711.30 Confidentiality claims.

(a) Confidentiality claims. Any person submitting information under this part may assert a business confidentiality claim for the information at the time it is submitted. Any such confidentiality claims must be made at the time the information is submitted. Confidentiality claims cannot be made when a response is left blank or designated as not known or reasonably ascertainable. These claims will apply only to the information submitted with the claim. New confidentiality claims, if appropriate, must be asserted with regard to information submitted during a different submission period. Guidance for asserting confidentiality claims is provided in the instructions identified in § 711.35. Information claimed as confidential in accordance with this section will be treated and disclosed in accordance with the procedures in 40 CFR part 2.

(b) Chemical identity. A person may assert a claim of confidentiality for the chemical identity of a specific chemical substance only if the identity of that chemical substance is treated as confidential in the Master Inventory File as of the time the report is submitted for that chemical substance under this part. The following steps must be taken to assert a claim of confidentiality for the identity of a reportable chemical substance:

(1) The submitter must submit with the report detailed written answers to the following questions signed and dated by an authorized official.

(i) What harmful effects to your competitive position, if any, or to your supplier's competitive position, do you think would result from the identity of the chemical substance being disclosed in connection with reporting under this part? How could a competitor use such information? Would the effects of disclosure be substantial? What is the causal relationship between the disclosure and the harmful effects?

(ii) How long should confidential treatment be given? Until a specific date, the occurrence of a specific event, or permanently? Why?

(iii) Has the chemical substance been patented? If so, have you granted licenses to others with respect to the patent as it applies to the chemical substance? If the chemical substance has been patented and therefore disclosed through the patent, why should it be treated as confidential?

(iv) Has the identity of the chemical substance been kept confidential to the extent that your competitors do not know it is being manufactured or imported for a commercial purpose by anyone?

(v) Is the fact that the chemical substance is being manufactured (including imported) for a commercial purpose available to the public, for example in technical journals, libraries, or State, local, or Federal agency public files?

(vi) What measures have been taken to prevent undesired disclosure of the fact that the chemical substance is being manufactured (including imported) for a commercial purpose?

(vii) To what extent has the fact that this chemical substance is manufactured (including imported) for commercial purposes been revealed to others? What precautions have been taken regarding these disclosures? Have there been public disclosures or disclosures to competitors?

(viii) Does this particular chemical substance leave the site of manufacture (including import) in any form, e.g., as product, effluent, emission? If so, what measures have been taken to guard against the discovery of its identity?

(ix) If the chemical substance leaves the site in a product that is available to the public or your competitors, can the chemical substance be identified by analysis of the product?

(x) For what purpose do you manufacture (including import) the chemical substance?

(xi) Has EPA, another Federal agency, or any Federal court made any pertinent confidentiality determinations regarding this chemical substance? If so, please attach copies of such determinations.

(2) If any of the information contained in the answers to the questions listed in paragraph (b)(1) of this section is asserted to contain confidential business information (CBI), the submitter must clearly identify the information that is claimed confidential by marking the specific information on each page with a label such as “confidential business information,” “proprietary,” or “trade secret.”

(c) Site identity. A submitter may assert a claim of confidentiality for a site only if the linkage of the site with a reportable chemical substance is confidential and not publicly available. The following steps must be taken to assert a claim of confidentiality for a site identity:

(1) The submitter must submit with the report detailed written answers to the following questions signed and dated by an authorized official:

(i) Has site information been linked with a chemical identity in any other Federal, State, or local reporting scheme? For example, is the chemical identity linked to a facility in a filing under the Emergency Planning and Community Right-to-Know Act (EPCRA) section 311, namely through a Material Safety Data Sheet (MSDS)? If so, identify all such schemes. Was the linkage claimed as confidential in any of these instances?

(ii) What harmful effect, if any, to your competitive position do you think would result from the identity of the site and the chemical substance being disclosed in connection with reporting under this part? How could a competitor use such information? Would the effects of disclosure be substantial? What is the causal relationship between the disclosure and the harmful effects?

(2) If any of the information contained in the answers to the questions listed in paragraph (c)(1) of this section is asserted to contain CBI, the submitter must clearly identify the information that is claimed confidential by marking the specific information on each page with a label such as “confidential business information,” “proprietary,” or “trade secret.”

(d) Processing and use information. A submitter may assert a claim of confidentiality for each data element required by § 711.15(b)(4) only if the linkage of the information with a reportable chemical substance is confidential and not publicly available. The following steps must be taken to assert a claim of confidentiality for each data element, individually, required by § 711.15(b)(4):

(1) The submitter must submit with the report detailed written answers to the following questions signed and dated by an authorized official:

(i) Is the identified use of this chemical substance publicly known? For example, is information on the use available in advertisements or other marketing materials, professional journals or other similar materials, or in non-confidential mandatory or voluntary government filings or publications? Has your company ever provided use information on the chemical substance that was not claimed as confidential?

(ii) What harmful effect, if any, to your competitive position or to your customer's competitive position do you think would result from the information reported as required by § 711.15(b)(4) and the chemical substance being disclosed in connection with reporting under this part? How could a competitor use such information? Would the effects of disclosure be substantial? What is the causal relationship between the disclosure and the substantial harmful effects?

(2) If any of the information contained in the answers to the questions listed in paragraph (d)(1) of this section is asserted to contain CBI, the submitter must clearly identify the information that is claimed confidential by marking the specific information on each page with a label such as “confidential business information,” “proprietary,” or “trade secret.”

(e) No claim of confidentiality. If no claim of confidentiality is indicated on Form U submitted to EPA under this part; if Form U lacks the certification required by § 711.15(b)(1); if confidentiality claim substantiation required under paragraphs (b), (c), and (d) of this section is not submitted with Form U; or if the identity of a chemical substance listed on the non-confidential portion of the Master Inventory File is claimed as confidential, EPA may make the information available to the public without further notice to the submitter.

§ 711.35 Electronic filing.

(a) You must use e-CDRweb to complete and submit Form U (EPA Form 7740-8). Submissions may only be made as set forth in this section.

(b) Submissions must be sent electronically to EPA via CDX.

(c) Access e-CDRweb and instructions, as follows:

(1) By Web site. Go to the EPA Inventory Update Reporting Internet homepage at http://www.epa.gov/iur and follow the appropriate links.

(2) By phone or e-mail. Contact the EPA TSCA Hotline at (202) 554-1404 or TSCA-Hotline@epa.gov for a CD-ROM containing the instructions.

[FR Doc. C1-2011-19922 Filed 9-2-11; 8:45 am]

BILLING CODE 1505-01-D